FEDERAL COMMUNICATIONS COMMISSION

Notice of Public Information Collection(s) being Reviewed by the Federal Communications Commission

December 5, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before January 10, 2001. If you anticipate that you will be submitting comments, but find it difficult to do so within the period of time allowed by this notice, you should advise the contact listed below as soon as possible.

ADDRESSES: Direct all comments to Judy Boley, Federal Communications Commission, Room 1-C804, 445 12th Street, SW., DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0942.

Title: Access Charge Reform, Price Cap Performance Review for Local Exchange Carriers, Low-Volume Long Distance Users, Federal-State Joint Board on Universal Service.

Form No.: N/A.

Type of Review: Revision of a currently approved collection.

Respondents: Business or other for-profit.

Number of Respondents: 27 respondents; 108 responses.

Estimated Time Per Response: 5 hours - 60 hours.

Frequency of Response: Recordkeeping requirement, third party disclosure requirement and quarterly and annual reporting requirements.

Total Annual Burden: 6,677 hours.

Total Annual Cost: N/A.

Needs and Uses: The Commission took action to further accelerate the development of competition in the local and long-distance telecommunications markets, and to further establish explicit universal service support that will be sustainable in an increasingly competitive marketplace, pursuant to the mandate of the 1996 Act. The Commission requires tariff filings, quarterly and annual data filings and cost support information to be reported under the Coalition for Affordable Local and Long Distance Service (CALLS) proposal.

The burden for this information collection has been reduced by 6,081 hours due the completion of the October 15, 2000 supplemental filing. As noted in our previous submission to the Office of Management and Budget (OMB), carriers were required to make a one-time supplemental filing to update the state-approved unbundled network element (UNE)-zones.

OMB Control No.: 3060-0943.

Title: Section 54.809, Carrier Certification.

Form No.: N/A.

Type of Review: Extension of a currently approved collection.

Respondents: Business or other for-profit.

Number of Respondents: 27.

Estimated Time Per Response: 1.5 hours.

Frequency of Response: Third party disclosure requirement and annual reporting requirement.

Total Annual Burden: 41 hours.

Total Annual Cost: N/A.

Needs and Uses: Section 54.809, of the Commission's rules, requires each price cap or competitive LEC that wishes to receive universal service support to file an annual certification with the Universal Service Administrative Company (USAC) and the Commission. The certification must state that the carrier will use its interstate access universal service support only for the provision, maintenance, and upgrading of facilities and services for which the support is intended.

Federal Communications Commission.
Magalie Roman Salas,
Secretary.

[FR Doc. 00-31397 Filed 12-8-00; 8:45 am]

BILLING CODE 6712-01-P